DEPARTMENT OF HEALTH AND HUMAN SERVICES

Centers for Medicare & Medicaid Services

42 CFR Part 412

[CMS-1290-CN]

RIN 0938-AN43

Medicare Program; Inpatient Rehabilitation Facility Prospective Payment System for FY 2006; Correction

AGENCY: Centers for Medicare & Medicaid Services (CMS), HHS.

ACTION: Final rule; correction.

SUMMARY: This document corrects technical errors that appeared in the FY 2006 Inpatient Rehabilitation Facility (IRF) Prospective Payment System (PPS) regulation entitled “Inpatient Rehabilitation Facility Prospective Payment System for FY 2006” (70 FR 47880).

DATES: Effective Date: October 1, 2005. This rule applies for discharges on or after October 1, 2005 and on or before September 30, 2006 (FY 2006).

FOR FURTHER INFORMATION CONTACT: Pete Diaz, (410) 786-1235.

SUPPLEMENTARY INFORMATION:

I. Background

In the FY 2006 IRF PPS final rule (70 FR 47880), there were a number of technical errors that are identified and corrected in the “Correction of Errors” section below. The provisions in this correction notice are effective as if they had been included in the FY 2006 IRF PPS final rule (70 FR 47880). Accordingly, the corrections are effective for the payments for discharges occurring on or after October 1, 2005 and on or before September 30, 2006.

Most of the technical errors identified and corrected in the “Correction of Errors” section below originate from the same error, an inadvertent inclusion of incorrect data for four inpatient rehabilitation facilities (IRFs) in the analysis for the FY 2006 final rule (70 FR 47880). In the analysis for the FY 2006 final rule (70 FR 47880), we inadvertently and incorrectly neglected to apply any rural adjustment amount to estimated payments for four IRFs in our analysis sample that should have received a portion of the rural adjustment under the IRF hold harmless policy (as described below). When we reran the data analysis with the correct portion of the rural adjustment applied to payments for these four facilities, it resulted in the technical changes to the majority of the numbers described in the “Correction of Errors” section below.

According to the hold harmless policy described in the FY 2006 final rule (70 FR 47880, 47924), those existing IRFs that meet the definition in 42 CFR 412.602 as rural in FY 2005 and will become urban under the FY 2006 Core-Based Statistical Area (CBSA)-based designations will qualify, under the hold harmless policy, for an adjustment to their payments in FY 2006 equal to all or some portion of two-thirds of the 19.14 percent rural adjustment effective in FY 2005 (as described below).

The hold harmless policy for the IRF PPS rural adjustment, as described in the FY 2006 final rule (70 FR 47880, 47924), results in two groups of IRFs that are within the scope of the policy. Both groups must meet the hold harmless criteria (that is, classified as rural in FY 2005 and redesignated as urban under the CBSA-based definitions in FY 2006). The first group of IRFs are those that meet the hold harmless criteria and that we estimate will experience lower payments in FY 2006 (with the hold harmless policy) than they otherwise would have if instead they had been paid under their rural designation in FY 2006, including the FY 2005 rural adjustment of 19.14 percent (as described in step 2 below). This first group of IRFs will receive an adjustment to payments in FY 2006 equal to a full two-thirds of the FY 2005 rural adjustment of 19.14 percent. The second group of IRFs meets the hold harmless criteria (described above), and we estimate that they will experience higher payments (with the hold harmless policy) than they otherwise would have if instead they had been paid under their rural designation in FY 2006, including the FY 2005 rural adjustment of 19.14 percent (as described in step 2 below). As discussed in the final rule (70 FR 47880, 47924), our intent of the hold harmless policy is to mitigate the negative payment effect upon an existing rural facility that is redesignated as an urban facility (effective FY 2006), but our intent is not for an IRF that comes under the hold harmless policy to realize greater payments as a result of the policy than the IRF would have if instead the IRF had been paid under its rural designation in FY 2006, including the FY 2005 rural adjustment of 19.14 percent. Therefore, under the hold harmless policy as described in the final rule (70 FR 47880, 47924), the second group of IRFs will receive a portion of the two-thirds of the 19.14 percent rural adjustment (as described further below), rather than the full adjustment.

The analysis for the FY 2006 final rule (70 FR 47880) and for this correction notice contained four IRFs in the second group (that is, facilities that would qualify for some portion less than the full two-thirds of the 19.14 percent rural adjustment in FY 2006).

In conducting the analysis for the FY 2006 final rule (70 FR 47880), we applied the hold harmless policy to IRF PPS payments using the following steps:

Step 1. We identified IRFs that qualify for the hold harmless policy (that is, those existing IRFs that are classified as rural in FY 2005 under § 412.602 and will be redesignated as urban under the CBSA-based definitions in FY 2006).

Step 2. For the IRFs that qualify for the hold harmless policy (identified in step 1), we estimated what they would have been paid under their rural designation in FY 2006, including the FY 2005 rural adjustment of 19.14 percent, based on what we estimate they would have been paid if we had issued an update notice to update FY 2006 IRF PPS payment rates instead of a final rule implementing substantive policy changes. An update notice for FY 2006 would have updated FY 2005 IRF PPS payment rates by the following: the FY 2006 MSA-based wage index, the FY 2006 estimate of the FY 1997-based excluded hospital market basket with capital, and the FY 2006 labor-related share estimated based on the FY 1997-based excluded hospital market basket with capital. Because an update notice would not have changed any IRF PPS policies, the 19.14 percent rural adjustment would have remained unchanged. Thus, to estimate what the IRFs that qualify for the hold harmless policy would have been paid under their rural designation in FY 2006 for the final rule and for this correction notice, we updated FY 2005 IRF PPS payments by the FY 2006 MSA-based wage index, the FY 2006 estimate of the FY 1997-based excluded hospital market basket with capital, and the FY 2006 labor related share estimated based on the FY 1997-based excluded hospital market basket with capital. We also kept the rural adjustment the same as it was in FY 2005, at 19.14 percent.

Step 3. We estimated what the IRFs that qualify for the hold harmless policy would have been paid in FY 2006 with the full two-thirds of the 19.14 percent hold harmless adjustment applied to their FY 2006 payment rates.

Step 4. We compared the estimated payment rates from step 2 and step 3 for each of the IRFs that qualify for the hold harmless policy.

Step 5. If an IRF's FY 2006 estimated payment rate from step 3 was less than the IRF's estimated payment rate from step 2, we applied the full two-thirds of the 19.14 percent adjustment to that IRF's estimated payment rate for FY 2006. However, if an IRF's FY 2006 estimated payment rate from step 3 was greater than that IRF's estimated payment rate from step 2, our methodology for the FY 2006 final rule (70 FR 47880), which is the same methodology we are using in this correction notice, requires that we apply only a portion of the two-thirds of the 19.14 percent adjustment to that IRF's estimated payment rate for FY 2006. The portion of the two-thirds of the 19.14 percent adjustment that we intended to apply in the final rule and in this correction notice to each of these facility's estimated payments was the amount that would make each IRF's estimated payment rate for FY 2006 equal to the estimated payment rate we computed in step 2 (that is, so that the IRF's estimated payment rate would equal, but not exceed, what we estimate the IRF would have been paid in FY 2006 if we had issued an update notice instead of a final rule implementing substantive policy changes for FY 2006 IRF PPS payments). However, in doing the analysis for the FY 2006 final rule, we inadvertently neglected to apply any portion of this adjustment to the estimated payments for these facilities.

Although our methodology in the FY 2006 final rule (70 FR 47880) included the steps discussed above, we inadvertently and incorrectly assigned no hold harmless adjustment in step 5 to estimated payments for the four IRFs that should have received a portion of the hold harmless adjustment when doing the data computations (as described above). In light of the inadvertent inclusion of incorrect data in the analysis for the final rule published in the FY 2006 IRF PPS regulation (70 FR 47880), we are making the following conforming technical changes to some of the numbers and the corresponding text in the FY 2006 final rule (70 FR 47880).

• The budget neutrality factor for the rural adjustment is reduced, from 0.9961 to 0.9957, because the conforming change from initially applying no rural adjustment to estimated payments for the four IRFs described above to applying a portion of the rural adjustment to estimated payments for these four providers increases estimated total payments to IRFs for FY 2006. Since we are implementing the hold harmless policy (described in the FY 2006 final rule (70 FR 47880)) in a budget neutral manner, we need to reduce the budget neutrality factor for the rural adjustment in order to make estimated total IRF payments in FY 2006 the same with and without the hold harmless policy. Decreasing the budget neutrality factor for the rural adjustment also decreases the standard payment amount obtained after applying the budget neutrality factor, from $13,105 to $13,100. In addition, because we now apply the same budget neutrality factor for the low-income patient (LIP) adjustment (0.9851) to $13,100 instead of to $13,105, the resulting standard payment amount obtained after applying the budget neutrality factor for the LIP also decreases, from $12,910 to $12,905 (that is, now the calculation is $13,100 × 0.9851 = $12,905, whereas before the change to the budget neutrality factor for the rural adjustment the calculation was $13,105 × 0.9851 = $12,910).

• The combined budget neutrality factor (that is, the single budget neutrality factor we obtain from multiplying the budget neutrality factors for the wage index adjustment, the rural adjustment, the LIP adjustment, and the teaching status adjustment) decreases, from 0.9699 to 0.9695, because one of the four factors that make up the combined budget neutrality factor decreases (as discussed above).

• The standard payment conversion factor decreases by $5, from $12,767 to $12,762, because the budget neutrality factor for the rural adjustment that is applied to the standard payment amount to calculate the standard payment conversion factor decreases, as described above.

• The outlier threshold amount is reduced by $3, from $5,132 to $5,129, as a result of making the conforming changes to reduce the budget neutrality factor for the rural adjustment and, therefore, to reduce the standard payment conversion factor. This is because, when we lower the standard payment conversion factor by $5, we have to account for this change when we set the outlier threshold amount to ensure that estimated outlier payments will continue to equal 3 percent of estimated total payments in FY 2006.

• Table 11, the example of computing an IRF's Federal prospective payment rate, is revised because the reduction of the standard payment conversion factor, described above, changes all of the FY 2006 Federal prospective payment rates (in Table 12). A change in the rates necessitates a change in the example that is constructed using those payment rates. We have also made conforming changes to the numbers in the text that refer to Table 11.

• Table 12, which contains the final FY 2006 Federal prospective payment rates, is revised because we had to recalculate the prospective payment rates because we are correcting the standard payment conversion factor, described above in this correction notice. The Federal prospective payment rates are computed by multiplying the standard payment conversion factor by the relative weights for each case-mix group (CMG) and tier. Therefore, since the standard payment conversion factor changed, we had to multiply the corrected standard payment conversion factor by the relative weights for each CMG and tier.

• Table 13, which contains the projected impacts of the FY 2006 refinements to the IRF PPS, is revised because the distribution of payments among providers changes slightly due to the budget neutral implementation of the policies. That is, estimated payments to the four IRFs described above increase by an average of 11 percent as a result of applying a portion of the two-thirds of the 19.14 percent rural adjustment to these facilities' payments under the hold harmless policy. Therefore, to implement this policy in a budget neutral manner (that is, such that estimated total IRF payments in FY 2006 are the same with or without the hold harmless policy), estimated payments to those IRFs that do not qualify for the hold harmless policy must be lowered slightly so that estimated total payments to IRFs do not increase because of the policy. This produces a slight redistribution of estimated payments among IRFs that is reflected in the impact analysis (Table 13). Because some of the numbers in Table 13 change, we also make conforming changes to the text that describes Table 13.

In addition to the technical corrections (described above) that we are making because of the inadvertent inclusion of incorrect data for the hold harmless policy, we are also correcting some of the numbers in the FY 2006 final rule (70 FR 47880, 47948 through 47949) that were used to describe our rationale for the hold harmless policy. These numbers, which were intended to indicate the estimated dollar impacts of the hold harmless policy, were inadvertently computed using the incorrect standard payment conversion factor. That is, we inadvertently used the incorrect standard payment conversion factor to compare what estimated payments to the IRFs that would qualify for the hold harmless policy would have been with and without the hold harmless policy. In light of this error, we have corrected the standard payment conversion factor and are making conforming changes to the impact numbers used to describe our rationale for the hold harmless policy in the Correction of Errors section below.

We are also deleting a bullet point summarizing our final hold harmless policy because it was inadvertently added to the section of the FY 2006 final rule (70 FR 47880, 47883) that was summarizing the proposed rule, even though we did not propose this policy in the proposed rule. In light of this, we are making the conforming change to delete the bullet point from the section of the final rule in which we summarized the proposed rule.

We are also correcting some typographical errors and typesetting errors.

II. Correction of Errors

In FR Doc. 05-15419 (70 FR 47880), we make the following corrections as described above in Section I of this correction notice:

1. On page 47883, in the second column, second paragraph, 10th bullet, remove the bullet “Implement a budget neutral 3 year hold harmless policy for FY 2005 rural IRFs redesignated as urban in FY 2006.” This bullet point was inadvertently added to the section of the final rule that was summarizing the FY 2006 proposed rule (70 FR 30188). Since we did not propose this policy in the proposed rule, it is therefore incorrect to indicate that it was a proposed policy.

2. On page 47890, in the second column, in the third full paragraph, line 7, “250.1” is corrected to read “250.01”. Commenters requested that we add code 250.01 (insulin dependent diabetes without mention of complications, not stated as uncontrolled). When we were adopting the commenter's request, we inadvertently typed the incorrect code number and corresponding description for this comorbidity code. Therefore, we are correcting typographical errors in the code and corresponding description. Furthermore, we note that code 250.1 is for diabetes with ketoacidosis, not diabetes mellitus without mention of complication not stated as uncontrolled. In addition, 250.1 (diabetes with ketoacidosis) makes no mention of controlled or uncontrolled status. This correction is merely a typographical error, and we are amending the error to reflect the description standard set forth within the ICD-9-CM manual.

3. On page 47890, as explained above, in the second column, in the third full paragraph, line 9, “controlled” is corrected to read “uncontrolled”.

4. On page 47890, as explained above, in the second column, in the fourth full paragraph, line 12, “250.1” is corrected to read “250.01”.

5. On page 47890, as explained above, in the second column, in the fourth full paragraph, line 14, “controlled” is corrected to read “uncontrolled”.

6. On page 47890, as explained above, in the second column, in the fourth full paragraph, line 15, “250.1” is corrected to read “250.01”.

7. On page 47890, as explained above, in the second column, in the fourth full paragraph, line 24, “250.1” is corrected to read “250.01”.

8. On page 47891, as explained above, in the second column, in the paragraph labeled “Final Decision”, line 12, “250.1” is corrected to read “250.01”.

9. On page 47891, as explained above, in the second column, in the paragraph labeled “Final Decision”, line 15, “controlled” is corrected to read “uncontrolled”.

10. On page 47911, in the third column, in the paragraph labeled “Miscellaneous Products”, line 11, “1.322” is corrected to read “1.188”. This was a misprint and does not have any effect on the market basket cost structure or the FY 2006 update.

11. On page 47933, in the third column, third paragraph, line 12, immediately before the formula, the following should be inserted: “where the DSH patient percentage =”. This was inadvertently deleted in the typesetting process.

12. On page 47936, in the second column, line 19, “$5,132” is corrected to read “$5,129”.

13. On page 47936, in the third column, second full paragraph, line 6, “$5,132” is corrected to read “$5,129”.

14. On page 47936, in the third column, second full paragraph, line 14, “$5,132” is corrected to read “$5,129”.

15. On page 47937, in the second column, line 31, “0.9961” is corrected to read “0.9957”.

16. On page 47937, in the second column, line 37, “0.9961” is corrected to read “0.9957”.

17. On page 47937, in the second column, line 38, “0.9699” is corrected to read “0.9695”.

18. On page 47937, in the second column, line 42, “$12,767” is corrected to read “$12,762”.

19. On page 47938, in the first column, in “Step 8”, line 3, “0.9961” is corrected to read “0.9957”.

20. On page 47938, in the second column, in the seventh paragraph, line 16, “0.9961” is corrected to read “0.9957”.

21. On page 47938, in the second column, in the last paragraph, line 9, “$13,105” is corrected to read “$13,100”.

22. On page 47938, in the second column, in the last paragraph, line 12, “$13,105” is corrected to read “$13,100”.

23. On page 47938, in the second column, in the last paragraph, line 13, “$12,910” is corrected to read “$12,905”.

24. On page 47938, in the third column, line 1, “$12,910” is corrected to read “$12,905”.

25. On page 47938, in the third column, line 1, “$12,767” is corrected to read “$12,762”.

26. On page 47939, in the second column, line 21, “0.9699” is corrected to read “0.9695”.

27. On page 47939, in the second column, line 23, “$12,767” is corrected to read “$12,762”.

28. On pages 47939 through 47940, Table 11 is corrected with the following new Table 11.

Table 11.—Examples of Computing an IRF's Federal Prospective Payment
| Facility A Dukes County, MA | Facility B Queens County, NY | Facility C Kings County, CA
Federal Prospective Payment | $27,675.67 | $27,675.67 | $27,675.67
Labor Share | × 0.75865 | × 0.75865 | × 0.75865
Labor Portion of Federal Payment | = $20,996.15 | = $20,996.15 | = $20,996.15
FY 2006 Transition Wage Index (shown in Tables 1 in the addendum) | × 1.0216 | × 1.3449 | × 0.9797
Wage-Adjusted Amount | = $21,449.66 | = $28,237.72 | = $20,569.93
Nonlabor Amount | $6,679.52 | $6,679.52 | $6,679.52
Wage-Adjusted Federal Payment | $28,129.19 | $34,917.24 | $27,249.45
Rural Adjustment | × 1.2130 | × 1.0000 | × 1.1276
Subtotal | = $34,120.70 | = $34,917.24 | = $30,726.48
LIP Adjustment | × 1.0310 | × 1.0612 | × 1.1203
FY 2006 Adjusted Rural and LIP Federal Prospective Payment Rate | = $35,178.45 | = $37,054.18 | = $34,422.87
Wage-Adjusted Federal Payment | $28,129.19 | $34,917.24 | $27,249.45
Teaching status adjustment | × 1.0000 | × 1.0900 | × 1.0000
| = $28,129.19 | = $38,059.79 | = $27,249.45
Teaching Status addition to FY 2006 Adjusted Rural and LIP Federal Prospective Payment Rate | $0.00 | $3,142.55 | $0.00
Total FY 2006 Adjusted Federal Prospective Payment | $35,178.45 | $40,196.73 | $34,422.87

29. On page 47940, in the first column, line 2, “$35,192.24” is corrected to read “$35,178.45”, as a result of correcting Table 11.

30. On page 47940, in the second column, line 1, “$40,212.49” is corrected to read “$40,196.73”, as a result of correcting Table 11.

31. On page 47940, in the second column, line 2, “$34,436.37” is corrected to read “$34,422.87”, as a result of correcting Table 11.

32. On pages 47940 through 47941, Table 12 is corrected with the following new Table 12.

Table 12.—FY 2006 Payment Rate Table Based on All Refinements
CMG | Payment rate tier 1 | Payment rate tier 2 | Payment rate tier 3 | Payment rate no comorbidity
0101 | $9,815.25 | $9,314.98 | $8,274.88 | $8,103.87
0102 | 12,086.89 | 11,471.76 | 10,190.46 | 9,979.88
0103 | 14,244.94 | 13,520.06 | 12,010.32 | 11,762.74
0104 | 15,134.46 | 14,363.63 | 12,760.72 | 12,496.55
0105 | 18,164.15 | 17,240.19 | 15,315.68 | 14,999.18
0106 | 21,142.81 | 20,066.97 | 17,827.24 | 17,458.42
0107 | 24,402.22 | 23,160.48 | 20,574.90 | 20,151.20
0108 | 28,211.68 | 26,775.95 | 23,787.09 | 23,295.75
0109 | 28,045.77 | 26,618.98 | 23,646.71 | 23,159.20
0110 | 33,515.56 | 31,810.56 | 28,258.90 | 27,675.67
0201 | 10,388.27 | 8,711.34 | 7,684.00 | 7,207.98
0202 | 13,319.70 | 11,170.58 | 9,852.26 | 9,240.96
0203 | 15,935.91 | 13,364.37 | 11,786.98 | 11,057.00
0204 | 17,044.93 | 14,294.72 | 12,607.58 | 11,826.55
0205 | 20,905.43 | 17,532.44 | 15,462.44 | 14,504.01
0206 | 27,283.88 | 22,882.27 | 20,181.83 | 18,929.87
0207 | 35,295.86 | 29,600.18 | 26,107.22 | 24,487.73
0301 | 14,412.13 | 12,169.84 | 10,771.13 | 9,908.42
0302 | 18,797.15 | 15,873.38 | 14,048.41 | 12,922.80
0303 | 22,429.22 | 18,940.08 | 16,764.16 | 15,420.32
0304 | 30,910.84 | 26,102.12 | 23,103.05 | 21,250.01
0401 | 12,622.89 | 10,869.40 | 9,770.59 | 8,725.38
0402 | 17,407.37 | 14,990.25 | 13,474.12 | 12,032.01
0403 | 30,300.82 | 26,093.19 | 23,455.28 | 20,944.99
0404 | 54,324.01 | 46,780.39 | 42,050.79 | 37,550.91
0405 | 41,447.15 | 35,691.49 | 32,082.39 | 28,649.41
0501 | 9,833.12 | 8,230.21 | 7,199.04 | 6,456.30
0502 | 13,165.28 | 11,018.71 | 9,639.14 | 8,644.98
0503 | 17,453.31 | 14,607.39 | 12,778.59 | 11,459.00
0504 | 21,848.54 | 18,285.39 | 15,995.89 | 14,344.49
0505 | 25,892.82 | 21,671.15 | 18,957.95 | 17,000.26
0506 | 35,232.05 | 29,487.88 | 25,794.55 | 23,132.40
0601 | 11,441.13 | 9,355.82 | 8,890.01 | 8,286.37
0602 | 15,218.69 | 12,445.50 | 11,826.55 | 11,021.26
0603 | 19,482.47 | 15,932.08 | 15,139.56 | 14,109.67
0604 | 24,935.67 | 20,392.40 | 19,376.54 | 18,059.51
0701 | 11,555.99 | 9,872.68 | 9,271.59 | 8,403.78
0702 | 15,004.28 | 12,818.15 | 12,037.12 | 10,910.23
0703 | 18,678.46 | 15,957.60 | 14,985.14 | 13,582.60
0704 | 22,923.10 | 19,583.29 | 18,390.04 | 16,669.72
0801 | 8,373.15 | 7,033.14 | 6,520.11 | 5,865.42
0802 | 10,937.03 | 9,186.09 | 8,516.08 | 7,662.30
0803 | 16,216.67 | 13,619.61 | 12,626.72 | 11,359.46
0804 | 14,126.26 | 11,863.56 | 10,998.29 | 9,895.65
0805 | 17,786.40 | 14,937.92 | 13,849.32 | 12,459.54
0806 | 21,345.72 | 17,926.78 | 16,619.95 | 14,951.96
0901 | 10,735.39 | 9,773.14 | 8,684.54 | 7,772.06
0902 | 14,107.11 | 12,842.40 | 11,411.78 | 10,212.15
0903 | 18,610.82 | 16,942.83 | 15,055.33 | 13,472.84
0904 | 23,330.21 | 21,239.80 | 18,872.45 | 16,889.23
1001 | 12,300.02 | 11,342.87 | 10,121.54 | 9,331.57
1002 | 16,219.23 | 14,955.79 | 13,345.22 | 12,303.84
1003 | 22,813.35 | 21,035.60 | 18,771.63 | 17,306.55
1101 | 16,008.65 | 13,395.00 | 11,727.00 | 10,799.20
1102 | 23,967.04 | 20,052.93 | 17,555.41 | 16,166.90
1201 | 12,996.82 | 11,222.90 | 10,344.88 | 9,337.96
1202 | 16,821.59 | 14,526.98 | 13,389.89 | 12,085.61
1203 | 20,722.94 | 17,894.88 | 16,494.89 | 14,888.15
1301 | 13,193.36 | 12,273.22 | 10,624.37 | 9,390.28
1302 | 18,280.29 | 17,005.37 | 14,719.69 | 13,010.86
1303 | 23,364.67 | 21,736.24 | 18,815.02 | 16,631.44
1401 | 10,429.11 | 9,382.62 | 8,162.58 | 7,409.62
1402 | 14,081.59 | 12,667.56 | 11,021.26 | 10,004.13
1403 | 17,528.61 | 15,768.73 | 13,719.15 | 12,454.44
1404 | 22,230.13 | 19,999.33 | 17,398.43 | 15,794.25
1501 | 11,769.12 | 11,479.42 | 9,810.15 | 9,440.05
1502 | 14,879.22 | 14,511.67 | 12,402.11 | 11,935.02
1503 | 18,210.10 | 17,760.88 | 15,179.12 | 14,606.11
1504 | 24,007.87 | 23,415.72 | 20,012.09 | 19,256.58
1601 | 12,844.95 | 10,903.85 | 9,866.30 | 8,810.88
1602 | 17,624.32 | 14,962.17 | 13,536.65 | 12,089.44
1603 | 21,680.09 | 18,404.08 | 16,651.86 | 14,871.56
1701 | 12,892.17 | 12,294.91 | 10,621.81 | 9,343.06
1702 | 16,979.84 | 16,192.43 | 13,989.70 | 12,306.40
1703 | 20,204.80 | 19,268.07 | 16,645.48 | 14,643.12
1704 | 25,278.97 | 24,106.14 | 20,826.31 | 18,319.85
1801 | 15,464.99 | 12,547.60 | 10,522.27 | 9,293.29
1802 | 24,739.14 | 20,072.07 | 16,833.08 | 14,866.45
1803 | 44,391.34 | 36,016.92 | 30,205.10 | 26,676.41
1901 | 15,776.38 | 14,013.95 | 13,625.99 | 11,931.19
1902 | 29,559.34 | 26,256.54 | 25,529.10 | 22,352.64
1903 | 42,674.85 | 37,906.97 | 36,857.93 | 32,271.27
2001 | 11,157.82 | 9,427.29 | 8,452.27 | 7,717.18
2002 | 14,609.94 | 12,343.41 | 11,065.93 | 10,103.68
2003 | 18,873.72 | 15,946.12 | 14,295.99 | 13,051.70
2004 | 25,212.61 | 21,302.33 | 19,097.06 | 17,436.72
2101 | 27,895.18 | 27,895.18 | 20,304.34 | 18,839.26
5001 | 0.00 | 0.00 | 0.00 | 2,808.92
5101 | 0.00 | 0.00 | 0.00 | 8,105.15
5102 | 0.00 | 0.00 | 0.00 | 20,421.75
5103 | 0.00 | 0.00 | 0.00 | 9,193.74
5104 | 0.00 | 0.00 | 0.00 | 23,955.55

33. On page 47944, in the first column, in the last bullet, line 2, “D5,132” is corrected to read “D5,129”.

34. On page 47944, in the second column, in the second bullet, line 8, “0.9961” is corrected to read “0.9957”.

35. On page 47944, in the second column, in the fourth bullet, line 3, “D12,767” is corrected to read “D12,762”.

36. On pages 47947, Table 13 is corrected with the following new Table 13.

Table 13.—Projected Impact of FY 2006 Refinements to the IRF PPS
Facility classification | Number of IRFs | Number of cases | FY06 wage index and labor-share (percent) | Outlier (percent) | Market basket (percent) | New CMG, new tiers, and motor score (percent) | Rural adjust. (percent) | New LIP adjust. (percent) | Teach. status adjust. (percent) | 1.9 reduct. | Total percent change
(1) | (2) | (3) | (4) | (5) | (6) | (7) | (8) | (9) | (10) | (11) | (12)
Total | 1,188 | 461,738 | 0.0 | 1.8 | 3.6 | 0.0 | 0.0 | 0.0 | 0.0 | −1.9 | 3.4
Urban unit | 802 | 261,229 | 0.1 | 2.3 | 3.6 | 0.9 | −0.2 | 0.1 | 0.5 | −1.9 | 5.4
Rural unit | 169 | 34,664 | −1.3 | 3.1 | 3.6 | 1.7 | 1.2 | −0.1 | −0.9 | −1.9 | 5.5
Urban hospital | 196 | 158,968 | 0.2 | 0.5 | 3.6 | −1.7 | −0.1 | −0.1 | −0.5 | −1.9 | 0.0
Rural hospital | 21 | 6,877 | −1.6 | 7.0 | 3.6 | −0.7 | 1.3 | 0.0 | −1.0 | −1.9 | 6.5
Urban For-Profit | 295 | 154,526 | 0.4 | 0.7 | 3.6 | −1.8 | 0.0 | 0.0 | −0.8 | −1.9 | 0.0
Rural For-Profit | 59 | 11,952 | −1.9 | 3.8 | 3.6 | 0.2 | 1.3 | 0.2 | −1.0 | −1.9 | 4.2
Urban Non-Profit | 603 | 237,384 | 0.0 | 2.1 | 3.6 | 1.0 | −0.2 | 0.0 | 0.5 | −1.9 | 5.0
Rural Non-Profit | 105 | 23,793 | −1.0 | 4.1 | 3.6 | 1.7 | 1.2 | −0.3 | −0.8 | −1.9 | 6.7
Urban Government | 100 | 28,287 | −0.2 | 2.5 | 3.6 | 0.5 | −0.1 | 0.5 | 1.7 | −1.9 | 6.7
Rural Government | 26 | 5,796 | −1.5 | 2.6 | 3.6 | 1.4 | 1.2 | 0.3 | −1.0 | −1.9 | 4.8
Urban | 998 | 420,197 | 0.1 | 1.6 | 3.6 | −0.1 | −0.1 | 0.0 | 0.1 | −1.9 | 3.2
Rural | 190 | 41,541 | −1.4 | 3.8 | 3.6 | 1.2 | 1.3 | −0.1 | −0.9 | −1.9 | 5.6
Urban by region:
New England | 35 | 20,612 | −0.3 | 1.7 | 3.6 | −0.7 | −0.4 | −0.3 | −0.6 | −1.9 | 1.1
Middle Atlantic | 156 | 76,962 | −0.4 | 2.0 | 3.6 | 1.1 | −0.3 | 0.0 | 1.6 | −1.9 | 5.7
South Atlantic | 124 | 73,677 | 0.4 | 0.6 | 3.6 | −0.5 | 0.2 | 0.0 | −0.3 | −1.9 | 2.0
East North Central | 189 | 69,315 | 0.1 | 2.3 | 3.6 | 1.2 | −0.3 | −0.2 | 0.1 | −1.9 | 4.9
East South Central | 54 | 30,473 | 0.2 | 0.0 | 3.6 | −1.4 | 0.4 | 0.1 | −0.5 | −1.9 | 0.5
West North Central | 71 | 22,217 | −0.1 | 2.1 | 3.6 | 0.6 | −0.2 | −0.1 | 0.1 | −1.9 | 4.2
West South Central | 184 | 76,088 | 0.5 | 1.8 | 3.6 | −0.7 | −0.2 | −0.1 | −0.5 | −1.9 | 2.3
Mountain | 69 | 24,287 | −0.2 | 1.2 | 3.6 | −2.2 | −0.1 | −0.1 | −0.5 | −1.9 | −0.3
Pacific | 116 | 26,566 | 0.8 | 2.2 | 3.6 | −0.8 | −0.3 | 1.1 | 0.0 | −1.9 | 4.7
Rural by region:
New England | 4 | 924 | 0.4 | 2.1 | 3.6 | 1.7 | 1.2 | −0.4 | −0.9 | −1.9 | 5.9
Middle Atlantic | 19 | 5,377 | −1.1 | 8.2 | 3.6 | 1.5 | 1.3 | −0.4 | −1.0 | −1.9 | 10.3
South Atlantic | 22 | 5,440 | −1.0 | 2.5 | 3.6 | 1.2 | 1.3 | 0.1 | −1.0 | −1.9 | 4.7
East North Central | 28 | 5,618 | −1.0 | 3.0 | 3.6 | 1.9 | 1.2 | −0.4 | −0.9 | −1.9 | 5.4
East South Central | 20 | 5,362 | −1.9 | 2.2 | 3.6 | 1.1 | 1.3 | 0.3 | −0.7 | −1.9 | 3.8
West North Central | 30 | 5,351 | −1.3 | 2.3 | 3.6 | 2.7 | 1.2 | −0.2 | −0.6 | −1.9 | 5.8
West South Central | 54 | 12,016 | −1.7 | 4.3 | 3.6 | 0.3 | 1.3 | 0.1 | −1.0 | −1.9 | 4.9
Mountain | 9 | 902 | −3.2 | 9.4 | 3.6 | 2.6 | 1.1 | −0.4 | −0.9 | −1.9 | 10.2
Pacific | 4 | 551 | 0.9 | 2.8 | 3.6 | −2.7 | 1.1 | −0.8 | −0.8 | −1.9 | 2.0
Teaching Status:
Non-teaching | 1,053 | 400,072 | 0.0 | 1.6 | 3.6 | −0.1 | 0.1 | −0.1 | −0.9 | −1.9 | 2.2
Resident to ADC less than 10 | 71 | 39,888 | 0.3 | 2.5 | 3.6 | 0.3 | −0.3 | 0.2 | 2.2 | −1.9 | 7.0
Resident to ADC 10-19 | 42 | 17,793 | −0.9 | 2.8 | 3.6 | 0.4 | −0.3 | 1.1 | 9.1 | −1.9 | 14.2
Resident to ADC greater than 19 | 22 | 3,985 | −0.1 | 4.1 | 3.6 | 0.0 | −0.3 | 1.1 | 19.5 | −1.9 | 27.4

37. On page 47948, in the third column, second full paragraph, line 12, “$207” is corrected to read “$1,322”.

38. On page 47948, in the third column, second full paragraph, line 13, “$3,070” is corrected to read “$2,887”.

39. On page 47948, in the third column, second full paragraph, line 14, “$1,472” is corrected to read “$1,986”.

40. On page 47948, in the third column, third full paragraph, line 5, “5” is corrected to read “4”. This was a typographical error.

41. On page 47949, in the first column, in the first line of the column, “$9” is corrected to read “$55”.

42. On page 47949, in the first column, in the second line of the column, “$380” is corrected to read “$324”.

43. On page 47949, in the first column, line 8, “$32” is corrected to read “$81”.

44. On page 47949, in the first column, in the eighth line of the column, “$1,167” is corrected to read “$1,207”.

45. On page 47949, in the first column, in the ninth line of the column, “$426” is corrected to read “$512”.

46. On page 47949, in the first column, in the first paragraph under section heading number 7, line 5, “$5,132” is corrected to read “$5,129”.

47. On page 47949, in the third column, in the last sentence of the first full paragraph, “1.4 percent estimated increase among all rural IRFs in the Middle Atlantic region” is corrected to read “1.3 percent estimated increase among all rural IRFs.” When we reran the data analysis with the correct portion of the rural adjustment applied to payments for the four IRFs described above, some of the numbers in Table 13 changed slightly. These changes to some of the numbers in Table 13 were technical changes, primarily due to rounding. However, one of the technical changes in column 8 of Table 13 for rural IRFs in the Middle Atlantic region (from 1.4 percent to 1.3 percent) requires a conforming technical change to the text that explains Table 13. Previously, when rural IRFs in the Middle Atlantic region were projected to experience a 1.4 percent increase in payments for FY 2006 due to the rural adjustment policy for FY 2006, this group of IRFs was projected to receive the largest payment increase due to the rural adjustment policy for FY 2006. However, after we reran the numbers, rural IRFs in the Middle Atlantic region were projected to experience roughly the same estimated impact of the final rural policies as all other rural IRFs (1.3 percent). Thus, it is no longer accurate to describe rural IRFs in the Middle Atlantic region as having a larger projected increase in payments for FY 2006 than all other rural IRFs. At 1.3 percent, all rural IRFs (including rural IRFs in the Middle Atlantic region) now have the largest estimated increase in payments for FY 2006. Thus, we are making the conforming change to the text that describes Table 13.

48. On page 47949, in the third column, in the last sentence of the first full paragraph, “0.3 percent estimated decrease among urban facilities in the New England, West South Central, and Pacific regions, and among all categories of teaching facilities” is corrected to read “0.4 percent estimated decrease among urban facilities in the New England region.” When we reran the data analysis with the correct portion of the rural adjustment applied to payments for the four IRFs described above, some of the numbers in Table 13 changed slightly. These changes to some of the numbers in Table 13 were technical changes, primarily due to rounding. However, one of the technical changes in column 8 of Table 13 for urban IRFs in the New England region (from −0.3 percent to −0.4 percent) requires a conforming technical change to the text that describes Table 13. The change from −0.3 percent to −0.4 percent means that urban IRFs in the New England region are now projected to experience a slightly greater decrease in payments than the other categories of urban IRFs listed previously whose estimated impacts in column 8 remained at −0.3 percent (that is, urban IRFs in the West South Central and Pacific regions and all categories of teaching IRFs). Thus, it is no longer accurate to describe urban IRFs in the West South Central and Pacific regions and all categories of teaching IRFs as experiencing the largest estimated decreases in payments due to the rural adjustment. At −0.4 percent, urban IRFs in the New England region now have a slightly larger estimated decrease in payments for FY 2006 than the other groups listed. Thus, we are making the conforming change to the text that describes Table 13.

49. On page 47952, in the first column, in the first paragraph under section heading number 14, line 9, “5.7” is corrected to read “5.6”.

50. On page 47952, in the first column, in the first paragraph under section heading number 14, line 11, “5.3” is corrected to read “5.4”.

51. On page 47952, in the first column, in the second paragraph under section heading number 14, line 5, “14.3” is corrected to read “14.2”.

52. On page 47952, in the second column, in the ninth line of the column, “0.2” is corrected to read “0.3”.

53. On page 47954, in the column titled “2006 CBSA-based WI” of SSA Code 01090, “.7628” is corrected to read “0.7628”. This was a typesetting error.

54. On page 47954, in the column titled “MSA No.” of SSA Code 01390, “21030” is corrected to read “2030”. This was a typesetting error.

55. On page 47960, in the column titled “CBSA No.” of SSA Code 11110, “5260” is corrected to read “15260”. This was a typesetting error.

56. On page 47961, in the column titled “CBSA No.” of SSA Code 11703, “5260” is corrected to read “15260”. This was a typesetting error.

57. On page 47964, in the column titled “MSA No.” of SSA Code 15140, “11640” is corrected to read “1640”. This was a typesetting error.

58. On page 47964, in the column titled “CBSA No.” of SSA Code 15310, “0126900” is corrected to read “26900”. This was a typesetting error.

59. On page 47968, in the column titled “MSA No.” of SSA Code 18090, “13400” is corrected to read “3400”. This was a typesetting error.

60. On page 47972, in the column titled “CBSA No.” of SSA Code 23380, “2820” is corrected to read “28020”. This was a typesetting error.

61. On page 47982, in the column titled “MSA No.” of SSA Code 34400, “13120” is corrected to read “3120”. This was a typesetting error.

62. On page 47992, in the column titled “CBSA No.” of SSA Code 44740, “4980” is corrected to read “34980”. This was a typesetting error.

63. On page 47992, in the column titled “CBSA No.” of SSA Code 45221, “7780” is corrected to read “17780”. This was a typesetting error.

64. On page 48000, in the column titled “CBSA No.” of SSA Code 52460, “133460” is corrected to read “33460”. This was a typesetting error.

III. Waiver of Proposed Rulemaking and Delayed Effective Date

We ordinarily publish a notice of proposed rulemaking in the Federal Register to provide a period for public comment before the provisions of a notice take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that notice and comment process is impracticable, unnecessary, or contrary to the public interest and incorporates a statement of the finding and the reasons for it into the notice issued.

The policies and payment methodology expressed in the FY 2006 final rule (70 FR 47880) have previously been subjected to notice and comment procedures. This correction notice merely provides technical corrections to the FY 2006 final rule that was promulgated through notice and comment rulemaking, and does not make substantive changes to the policies or payment methodology that were expressed in the final rule. For example, this notice corrects typographical errors and typesetting errors, revises inaccurate tabular data due to inadvertently neglecting to apply any rural adjustment amount to estimated payments for four IRFs in conformance with the hold harmless policy, updates the narrative to reflect the correct tabular data, corrects some estimated dollar impacts due to inadvertently computing the estimates using the incorrect standard payment conversion factor, and makes clarifications to the preamble text. Therefore, we find it unnecessary to undertake further notice and comment procedures with respect to this correction notice. We also believe it is in the public interest to waive notice and comment procedures and the 30-day delay in effective date for this notice. This correction notice is intended to ensure that the FY 2006 final rule accurately reflects the policies expressed in the final rule, and that the correct information is made available to the public prior to October 1, 2005, the date on which the final rule becomes effective.

For the reasons stated above, we find that both notice and comment and the 30-day delay in effective date for this correction notice are unnecessary and impracticable, and that it is in the public interest to make this notice effective in conjunction with the final rule to which the corrections apply (and would be contrary to the public interest to do otherwise). Therefore, we find good cause to waive notice and comment procedures and the 30-day delay in effective date for this correction notice.

(Catalog of Federal Domestic Assistance Program No. 93.773, Medicare—Hospital Insurance; and Program No. 93.774, Medicare—Supplementary Medical Insurance Program)
Dated: September 27, 2005.
Ann C. Agnew,
Executive Secretary to the Department.

[FR Doc. 05-19610 Filed 9-29-05; 8:45 am]

BILLING CODE 4120-01-P